DEPARTMENT OF TRANSPORTATION

Federal Highway Administration

Environmental Impact Statement: Bolivar, Sunflower, Coahoma, and Tunica Counties, Mississippi

AGENCY: Federal Highway Administration (FHWA), DOT.

ACTION: Notice of intent.

SUMMARY: The Federal Highway Administration is issuing this notice to advise the public that an environmental impact statement will be prepared for the I-69 Corridor Study in the above referenced counties in Mississippi.

FOR FURTHER INFORMATION CONTACT: Mr. Cecil Vick, Realty Officer/Environmental Coordinator, Federal Highway Administration, 666 North Street, Suite 105, Jackson, MS 39202-3199, Telephone: (601) 965-4217. Contacts at the State and local level, respectively are: Mr. Claiborne Barnwell, Environmental/Location Division Engineer, Mississippi Department of Transportation, P.O. Box 1850, Jackson, MS 39215-1850, telephone: (601) 359-7920; Mr. James Dickerson III, District 2 Engineer, Mississippi Department of Transportation, P.O. Box 660, Batesville, MS 38606, telephone (662) 563-4541; and Mr. Walter Lyons, District 3 Engineer, Mississippi Department of Transportation, P.O. Box 630, Yazoo City, MS, 39194, telephone (662) 746-2513.

SUPPLEMENTARY INFORMATION: The FHWA, in cooperation with the Mississippi Department of Transportation (MDOT) will prepare an Environmental Impact Statement (EIS) for a segment of the proposed Interstate 69 corridor in Mississippi.

This segment of the proposed interstate would be located in one of at least three identified corridor areas. It has logical termini at the Great River Bridge crossing of the Mississippi River near Benoit, Mississippi, and at Mississippi Highway 304 east of Robinsonville in Tunica County, Mississippi.

This approximately 100-mile section of I-69 in Mississippi is a part of the much larger transcontinental highway 69 project extending from Canada to Mexico. The purpose of the I-69 project in Mississippi is very similar to the national purpose of improving international and interstate trade and facilitating economic development. I-69 is also a transportation recommendation of the Delta Initiative. The Delta Initiative is aimed at the revitalization and economic development of the Lower Mississippi Delta. The I-69 corridor, after crossing the Mississippi River, will enter Mississippi at its western termini in Bolivar County and extend in a generally northerly direction through several Mississippi Delta counties exiting Desoto County to Memphis, Tennessee. The highway is a proposed full control of access facility, and interchanges will be studied at various locations.

Alternatives under consideration include (1) taking no action and (2) build alternatives.

The FHWA and MDOT are seeking input as a part of the scoping process to assist in determining and clarifying issues relative to this project. Letters describing the proposed action and soliciting comments will be sent to appropriate federal, state, and local agencies, and to private organizations and citizens who have previously expressed or are known to have interest in this proposal. A formal scoping meeting with federal, state, and local agencies, and other interested parties will be held in the near future.

Coordination will be continued with appropriate federal, state, and local agencies, tribes, and private organizations and citizens who have previously expressed or are known to have an interest in this proposal. Of paramount importance to this effort is the public participation process. Several public involvement meetings will be held, a newsletter will be developed, and a website will be created to keep the public informed. The draft EIS will be available for public and agency review and comment prior to the official public hearing.

To ensure that the full range of issues related to this proposed action are addressed and all significant issues identified, comments and suggestions are invited from all interested parties. Comments or questions concerning this proposed action and the EIS should be directed to the FHWA at the address provided above.

Andrew H. Hughes,
Division Administrator, Jackson, Mississippi.

[FR Doc. 01-11586 Filed 5-8-01; 8:45 am]

BILLING CODE 4910-22-M